ENVIRONMENTAL PROTECTION AGENCY

[FRL-10002-14-Region 3]

Administrative Settlement Agreement for Recovery of Past Response Costs Pursuant to Section 122(H) of the Comprehensive Environmental Response, Compensation, and Liability Act of 1980, as Amended

AGENCY: Environmental Protection Agency (EPA).

ACTION: Notice; request for public comment.

SUMMARY: In accordance with the Comprehensive Environmental Response, Compensation, and Liability Act (“CERCLA”), notice is hereby given that a proposed administrative settlement agreement for recovery of past response costs (“Proposed Agreement”) associated with the Fleetwood Residential Lead Superfund Site and the Hamburg Residential Lead Superfund Site, both located in Berks County, Pennsylvania (collectively the “Sites”) was executed by the Environmental Protection Agency (“EPA”) and is now subject to public comment, after which EPA may modify or withdraw its consent if comments received disclose facts or considerations that indicate that the Proposed Agreement is inappropriate, improper, or inadequate. The Proposed Agreement would resolve potential EPA claims under Sections 107(a) and 113 of CERCLA, against Exide Technologies, Inc. (“Settling Party”). The Proposed Agreement would require Settling Party to reimburse EPA $112,500.00 for past response costs incurred by EPA for the Sites.

For thirty (30) days following the date of publication of this notice, EPA will receive written comments relating to the Proposed Agreement. EPA's response to any comments received will be available for public inspection at the U.S. Environmental Protection Agency, Region III, 1650 Arch Street, Philadelphia, PA 19103.

DATES: Comments must be submitted on or before December 18, 2019.

ADDRESSES: The Proposed Agreement and additional background information relating to the Proposed Agreement are available for public inspection at the U.S. Environmental Protection Agency, Region III, 1650 Arch Street, Philadelphia, PA 19103. A copy of the Proposed Agreement may be obtained from Thomas A. Cinti (3RC20), Senior Assistant Regional Counsel, U.S. Environmental Protection Agency, 1650 Arch Street, Philadelphia, PA 19103. Comments should reference the “Fleetwood Residential Lead Superfund Site and the Hamburg Residential Lead Superfund Site, Proposed Administrative Settlement Agreement for Recovery of Past Response Costs” and “EPA Docket No. CERCLA-03-2019-0117CR,” and should be forwarded to Thomas A. Cinti at the address below.

FOR FURTHER INFORMATION CONTACT: Thomas A. Cinti (3RC20), U.S. Environmental Protection Agency, 1650 Arch Street, Philadelphia, PA 19103, Phone: (215) 814-2634; cinti.thomas@epa.gov.

Dated: October 21, 2019.
Paul Leonard,
Acting Director, Superfund & Emergency Management Division, U.S. Environmental Protection Agency, Region III.

[FR Doc. 2019-24926 Filed 11-15-19; 8:45 am]

BILLING CODE 6560-50-P